DEPARTMENT OF ENERGY

Federal Energy Regulatory Commission

[Docket No. EL18-151-000]

Notice of Petition for Partial Waiver: Minnkota Power Cooperative, Inc.; Northern Municipal Power Agency

Take notice that on May 16, 2018, pursuant to section 292.402 of the Federal Energy Regulatory Commission's (Commission) Regulations, 18 CFR 292.402, Minnkota Power Cooperative, Inc. (Minnkota) and Northern Municipal Power Agency (Agency) on behalf of themselves, Minnkota's 11 rural electric cooperative member-owners (collectively, the Members) and 10 of Agency's 12 municipal members (collectively, the Municipals), filed a petition for partial waiver of certain obligations imposed on Minnkota, Agency, the Members, and the Municipals under sections 292.303(a) and 292.303(b) of the Commission's Regulations ¹ implementing section 210 of the Public Regulatory Policies Act of 1978, as amended, all as more fully explained in its petition.

¹ 18 CFR 292.303(a) and 292.303(b).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE, Washington, DC 20426. This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern time on June 6, 2018.

Dated: May 17, 2018.
Kimberly D. Bose,
Secretary.

[FR Doc. 2018-11042 Filed 5-22-18; 8:45 am]

BILLING CODE 6717-01-P